DEPARTMENT OF THE INTERIOR

Bureau of Indian Affairs

[156A2100DD/AAKC001030/A0A501010.999900 253G]

Final Decision on Remand Against Federal Acknowledgment of the Duwamish Tribal Organization

AGENCY: Bureau of Indian Affairs, Interior.

ACTION: Notice of corrections to Final Decision On Remand.

SUMMARY: This notice announces that the Department of the Interior (Department) through the Assistant Secretary—Indian Affairs (AS-IA) issued corrections to the “Summary under the Criteria and Evidence for Final Decision on Judicial Remand” dated July 2, 2015 (Final Decision on Remand) that declined to acknowledge that the Duwamish Tribal Organization (DTO), c/o Cecile Maxwell-Hansen, is an Indian tribe within the meaning of Federal law. This notice supplements the notice of final decision on remand published in the Federal Register on July 8, 2015.

DATES: The Final Decision on Remand (corrected) is final for the Department on publication of this notice.

ADDRESSES: Requests for a copy of the Final Decision on Remand (corrected) should be addressed to the Office of the Assistant Secretary—Indian Affairs, Attention: Office of Federal Acknowledgment, 1951 Constitution Avenue NW., MS 34B-SIB, Washington, DC 20240. It is also available through www.bia.gov/WhoWeAre/AS-IA/OFA/RecentCases/index.htm.

FOR FURTHER INFORMATION CONTACT: Mr. R. Lee Fleming, Director, Office of Federal Acknowledgment, (202) 513-5650.

SUPPLEMENTARY INFORMATION: On July 2, 2015, the Department issued a “Summary under the Criteria and Evidence for Final Decision on Judicial Remand” (Final Decision on Remand) declining to acknowledge that the Duwamish Tribal Organization (DTO), c/o Cecile Maxwell-Hansen, is an Indian tribe within the meaning of Federal law. On July 8, 2015, the Department published a notice of the Final Decision on Remand in the Federal Register at 80 FR 39142.

The Final Decision on Remand dated July 2, 2015, was incomplete. It omitted language that the AS-IA has determined should have been included in the final decision and it omitted an appendix referenced in the text. The Final Decision on Remand dated July 23, 2015, corrects these omissions.

This notice announces the corrections to the Final Decision on Remand. The Final Decision on Remand (corrected) dated July 23, 2015 does not affect the determination that the petitioner does not satisfy all seven mandatory criteria in the either the 1978 or 1994 regulations, 25 CFR part 83. This notice supplements the Federal Register notice of the final decision on remand published on July 8, 2015.

The Final Decision on Remand (corrected) is final for the Department on publication of this notice in the Federal Register.

Dated: July 24, 2015.
Kevin K. Washburn,
Assistant Secretary—Indian Affairs.

[FR Doc. 2015-18621 Filed 7-28-15; 8:45 am]

BILLING CODE 4337-15-P